DEPARTMENT OF JUSTICE

National Institute of Corrections

Solicitation for a Cooperative Agreement: Production of Nine Satellite/Internet Broadcasts

AGENCY: National Institute of Corrections, U.S. Department of Justice, Federal Bureau of Prisons.

ACTION: Solicitation for a Cooperative Agreement.

SUMMARY: The Department of Justice (DOJ), Federal Bureau of Prisons (FBOP), National Institute of Corrections (NIC), is seeking applications to award a cooperative agreement for the production of satellite/Internet broadcasts. The cooperative agreement will be for a two-year period, but an award will be made for each of the two years contingent on the availability of funding for each fiscal year (e.g., FY 2006 and FY 2007.) Year 1 will consist of the following nine programs: Five of the proposed programs are nationwide satellite/Internet broadcasts (three hours each.) The other four are satellite/Internet Training Programs. Two of the four are “site coordinator/facilitator training” (Training for Trainers) sessions consisting of eight hours of satellite/Internet training divided over two days. The remaining two training programs are 32-hour content-driven training programs. For each 32-hour program, there will be 16 hours of live broadcast satellite/Internet training over four days (supplemented by 16 hours of off-air activities directed by our trained site coordinators.) There will be a total of 63 hours of broadcast time in FY 2006.

Approximately 3 months before awarding Year 2, and based on satisfactory performance during Year 1, the awardee will receive information about the amount of the award and the scope of work (which will require approximately the same type of support for 9 to 11 programs consisting of 70 to 82 hours of broadcast time.) Based on this information the awardee will be required to submit another application explaining how the work will be accomplished.

DATES: Applications must be received by 4 p.m. on Thursday, November 10, 2005. They should be addressed to: Director, National Institute of Corrections, 320 First Street, NW., Room 5007, Washington, DC 20534. Applicants are encouraged to use Federal Express, UPS, or similar service to insure delivery by the due date. Hand delivered applications can be brought to 500 First Street, NW., Room 5007, Washington, DC 20534. The security desk will call Fran Leonard at 202-307-3106, and 0 for pickup. Faxed or e-mailed applications will not be accepted.

FOR FURTHER INFORMATION CONTACT: A copy of this announcement is posted on http://www.grants.gov as well as the NIC Web site at http://www.nicic.org. In addition to the announcement, both sites contain the required application forms that must be submitted. If needed, hard copies of the announcement can be obtained by calling Rita Rippetoe at 800-995-6423, extension 44222, or by e-mail at rrippetoe@bop.gov. Any specific questions regarding the application process should be directed to Ms. Rippetoe. All technical and/or programmactic questions concerning this announcement should be directed Ed Wolahan, Correctional Program Specialist, at 1960 Industrial Circle, Longmont, Colorado 80501, or by calling 800-995-6429, extension 131, or by e-mail at ewolahan@bop.gov.

SUPPLEMENTARY INFORMATION Background: Satellite/Internet Broadcasting is defined as a training/education process transpiring between trainers/teachers at one location and participants/students at other locations via technology. NIC is using satellite broadcasting and the Internet to economically reach more correctional staff in federal, state and local agencies. Another strong benefit of satellite delivery is its ability to broadcast programs conducted by experts in the correctional field, thus reaching the entire audience at the same time with exactly the same information. In addition, NIC is creating training programs from its edited 24- and 32-hour satellite/Internet training programs that will be disseminated through the NIC Information Center.

Purpose: The purposes for funding this initiative are:

(1) Produce five three hour satellite/Internet broadcasts, disseminating current information to the criminal justice community;

(2) Produce two eight hour training sessions for site coordinators/facilitators. These sessions will train facilitators from each registered site concerning the outcomes expected and the knowledge and skills needed to facilitate the broadcast and off-air activities for the two training programs described in paragraph (3) below;

(3) Produce two satellite/Internet training programs, 16 hours in length, that respond directly to the needs identified by practitioners working in the criminal justice arena. Each 16-hour satellite/Internet training session will be delivered on four hours each day from Monday through Thursday.

(4) Produce eight to twelve hours of studio time for pre-training for Public and Media Relations. (Note: no satellite time is needed for this taping.)

Scope of Work: To address the scope of work for this project, the following will be needed:

1. Producer Consultation and Creative Services: The producer will: (a) Consult and collaborate with NIC's Distance Learning Manager on program design, program coordination, design of field segments and content development; (b) work with each consultant/trainer to develop their modules for delivery using the satellite/Internet format and/or the teleconference format; (c) assist in the development of scripts, graphic design, production elements and rehearsals for each module of the site coordinators' training and the satellite/Internet training programs; and (d) use their expertise in designing creative ways to deliver satellite teleconferencing. The producer will also be responsible for attending planning meetings and assisting in the videotaping of testimonials at conferences.

2. Pre-Production Video: The producer will supervise the production of vignettes to be used in each of the three hour satellite/Internet broadcasts, as well as each 16-hour satellite/Internet training program. NIC presenters (content experts) will draft outlines of the scripts for each vignette. From the outlines, scripts will be developed by the producer (script writing expert) and approved by NIC's Distance Learning Manager. Professional actors will play the parts designated by the script. Story boards for each production will be written by NIC's Distance Learning Manager. A total of between 18 and 25 vignettes will be created under this cooperative agreement.

The producer will supervise camera and audio crews to capture testimonials from leaders in the correctional field at designated correctional conferences. The producer will coordinate all planning of the production and post-production for each of the nine satellite/Internet broadcasts.

Video Production: Video production for each teleconference will consist of videotaping content-related events in the field, editing existing video, and videotaping experts for testimonial presentations. It will also include voice-over, audio and music for each video, if necessary. Blank tapes and narration for field shooting will be purchased for each site. The format for all field shooting will be either Beta Cam, DV Pro Digital and/or Mini DVD.

Post Production (Studio): Innovative and thought-provoking opening sequences will be produced for each teleconference. In addition, graphics will be utilized to enhance the learning in each module. The producer will coordinate art direction, lighting, and set design and furniture for all teleconference segments. (Set design should change periodically throughout the award period.) The set will be customized to each topic. The producer will organize and supervise the complete production crew on rehearsal and production days.

3. Production: The production group will set up and maintain studio lighting, adjust audio, and have a complete production crew for the days and hours set forth below. A production crew shall include the following: Director, Audio Operator, Video Operator, Character Generator Operator, Floor Director, Four (4) Camera Operators, Teleprompter Operator, On-Line Internet Coordinator, Make-Up Artist (production time only), and Interactive Assistance Personnel (fax, e-mail, and telephone.)

Each production will also have closed captioning for all programs. After each production, the studio will provide 12 VHS copies to NIC and the Master on Beta Cam and DVD. The DVD will have a splash page that will break down each module, each day, and the vignettes that have been produced for each program.

For each 3-hour program, NIC will receive one DVD with splash page. For the 8-hour program, NIC will receive two DVD's and, for the 16-hour programs, NIC will receive four DVD's with splash page on each. Each of these will be edited to provide the necessary content under the direction of the Distance Learning Manager.

4. Transmission:

a. Purchase satellite uplink time that will include the footprints of Alaska, Hawaii, Virgin Islands, and the Continental United States;

b. Acquire downlink transponder time for KU-Band and C-Band; and

c. Purchase Internet streaming of 200 simultaneous feeds for each program. Be able to provide closed captioning on the Internet feed.

5. Equipment: Applicants must have a minimum of the following equipment:

a. Broadcast Studio of approximately 2,000 square feet, with an area for a studio audience of between 15 and 20 people;

b. Four Digital Studio Cameras (one of which may be an overhead camera with robotic control);

c. Chroma Key: At least one wall with chroma key capability along with a digital ultimate keying system;

d. A tape operation facility providing playback/record in various formats, including DV, Betacam, Betacam SP, SVHS, VHS, U-Matic 3/4 & SP;

e. Advit or comparable editing bay;

f. Three-dimensional animation with computer graphics;

g. Internet streaming capacity for several hundred simultaneous downloads in both G2 Real Player and Microsoft Media Player—Capture Closed Captioning;

h. Ability to archive four selected satellite/Internet broadcasts from FY 2005 and all nine broadcasts from FY 2006;

i. Computer Teleprompter for at least three studio cameras;

j. Interruptible Fold Back (IFB) on In Ear Monitor (IEM) for the moderator during our three-hour programs and an (IFB) for each presenter during the eight- and sixteen-hour programs. Individual control from control room to the Distance Learning Manager.

k. Wireless microphones for each presenter during both eight- and sixteen-hour programs.

l. Microphones for the studio audience at each round table. Should be able to pick up audio during the training program.

m. Satellite Uplink and Transponder: KU-Band and C-Band/or Digital with C-Band to cover the footprints of Alaska, Hawaii, Virgin Islands, and the Continental United States; and

n. Portable Field Equipment—Digital Video Cameras with recording decks, portable lighting kits, microphones (both hand-held and lapel), field monitors, audio mixers, and camera tripods.

6. Personnel: Applicants must have a minimum of the following qualified personnel:

a. Producer/Director.

b. Script Writer.

c. Set Designer.

d. Lighting Designer.

e. Audio Operator.

f. Graphics Operator.

g. Graphics Artist.

h. Floor Manager.

i. Studio Camera Operators (4).

j. Tape Operator.

k. Location Camera Operator.

l. Teleprompter Operator.

m. Clerical/Administrative Support.

n. Makeup Artist (as needed during production).

o. Closed Caption Operator (as needed during production).

Application Requirement: Applicants must submit an original (signed in blue ink) and five copies of their application and the required forms (see below). Applicants must prepare a proposal that describes their plan to address the requirements to produce these nine live satellite/Internet broadcasts. The plan must include a list of all required equipment, identify key operational staff and the relevant expertise of each, and address the manner in which they would perform all tasks in collaboration with NIC's Distance Learning Manager. Please note that Standard Form 424, Application for Federal Assistance, submitted with the proposal, must contain the cover sheet, budget, budget narrative, assurances, certifications, and management plan. All required forms and instructions for their completion may be downloaded from the NIC Web site: http://www.nicic.org.

Authority: Public Law 93-415.

Amount Of Award: This is a cooperative agreement. A cooperative agreement is a form of assistance relationship in which the National Institute of Corrections is involved during the performance of the award. This award is made to an organization that has the capability to produce live satellite/Internet teleconferences. This initiative emphasizes television-quality production that meets or exceeds major network quality. The award will be limited to $400,000 for both direct and indirect costs related to this project. Funds may not be used to purchase equipment, for construction, or to acquire or build real property. This project will be a collaborative venture with the NIC Academy Division. All products from this funding will be in the public domain and available to interested agencies through the National Institute of Corrections.

Availability of Funds: Funds are not presently available for this cooperative agreement. The Government's obligation under this cooperative agreement is contingent upon the availability of appropriated funds from which payment for cooperative agreement purposes can be made. No legal liability on the part of the Government for any payment may arise until funds are made available for this cooperative agreement and until the awardee receives notice of such availability, to be confirmed in writing. Nothing contained herein shall be construed to obligate the parties to any expenditure or obligation of funds in excess or in advance of appropriation in accordance with Antideficiency Act, 31 U.S.C. 1341.

Award Period: This award period is from January 1, 2006 to November 30, 2007.

Eligible Applicants: An eligible applicant is any state or general unit of local government, public or private agency, educational institution, organization, team or individual with the requisite skills to successfully meet the objectives of the project.

Review Considerations: Applications received under this announcement will be subjected to an NIC three to five member review panel.

Number of Awards: One (1).

Executive Order 12372: This program is not subject to the provisions of Executive Order 12372.

NIC Application Number: 06A32. This number should appear as a reference line in your cover letter, in box 11 of Standard Form 424, and on the outside of the package sent to NIC.

(Catalog of Federal Domestic Assistance Number: 16.601; Corrections—Staff Training and Development.)

Dated: September 30, 2005.
Morris Thigpen,
Director, National Institute of Corrections.

[FR Doc. 05-20190 Filed 10-6-05; 8:45 am]

BILLING CODE 4410-36-M